DEPARTMENT OF COMMERCE

International Trade Administration

[A-201-836]

Notice of Postponement of Final Antidumping Duty Determination and Extension of Provisional Measures: Light-Walled Rectangular Pipe and Tube From Mexico

AGENCY: Import Administration, International Trade Administration, Department of Commerce.

EFFECTIVE DATE: February 28, 2008.

FOR FURTHER INFORMATION CONTACT: Angelica Mendoza, Patrick Edwards (PROLAMSA) or Judy Lao (Maquilacero), AD/CVD Operations, Office 7, Import Administration, International Trade Administration, U.S. Department of Commerce, 14th Street and Constitution Avenue, NW., Washington, DC 20230; telephone: (202) 482-3019, (202) 482-8029, or (202) 482-7924, respectively.

SUPPLEMENTARY INFORMATION:

Background

On July 24, 2007, the Department of Commerce (the Department) published the initiation of the antidumping duty investigations on imports of light-walled rectangular (LWR) pipe and tube from the Republic of Korea, Mexico, Turkey, and the People's Republic of China. See Initiation of Antidumping Duty Investigations: Light-Walled Rectangular Pipe and Tube from Republic of Korea, Mexico, Turkey, and the People's Republic of China, 72 FR 40274 (July 24, 2007) (Initiation Notice). On January 30, 2008, the Department published its affirmative preliminary determination in this investigation. See Notice of Preliminary Determination of Sales at Less Than Fair Value: Light-Walled Rectangular Pipe and Tube From Mexico, 73 FR 5515 (January 30, 2008). This notice stated that the Department would issue its final determination no later than 75 days after the date on which the Department issued its preliminary determination.

Postponement of Final Determination

Section 735(a)(2)(A) of the Act and 19 CFR 351.210(b)(2)(ii) provide that a final determination may be postponed until no later than 135 days after the date of the publication of the preliminary determination if, in the event of an affirmative preliminary determination, a request for such postponement is made by exporters who account for a significant portion of exports of the subject merchandise. Additionally, the Department's regulations, at 19 CFR 351.210(e)(2)(ii), require that a request by a respondent for postponement of a final determination be accompanied by a request for extension of the provisional measures from a four-month period to not more than six months.

On February 7, 2008, in accordance with section 735(a)(2)(A) of the Act and 19 CFR 351.210(b)(2)(ii), one of the two mandatory respondents, Maquilacero S.A. de C.V. (Maquilacero), requested that the Department: ¹ (1) Postpone the final determination, and (2) extend the provisional measures period from four months to a period not longer than six months. Accordingly, pursuant to section 735(a)(2)(A) of the Act and 19 CFR 351.210(b)(2)(ii), because: (1) The preliminary determination is affirmative; (2) the requesting exporter accounts for a significant portion of exports of the subject merchandise in this investigation and it requested the extension of the provisional measures; and (3) no compelling reasons for denial exist, we are postponing the final determination until no later than 135 days after the publication of the preliminary determination in the Federal Register (i.e., until no later than June 13, 2008). Suspension of liquidation will be extended accordingly.

¹ Maquilacero stated in its February 7, 2008, letter that its counsel consulted with counsel for Productos Laminados de Monterrey, S.A. de C.V. (“Prolamsa”) and Prolamsa USA Inc., who consented to Maquilacero's request for postponement of the final determination.

This notice of postponement is published pursuant to sections 735(a)(2) and 777(i)(1) of the Act and 19 CFR 351.210(g).

Dated: February 22, 2008.
David M. Spooner,
Assistant Secretary for Import Administration.

3

[FR Doc. E8-3786 Filed 2-27-08; 8:45 am]

BILLING CODE 3510-DS-P